ENVIRONMENTAL PROTECTION AGENCY

40 CFR Part 52

[MD082-3028b; FRL-6531-2]

Approval and Promulgation of Air Quality Implementation Plans; Maryland; 15 Percent Rate of Progress Plan for the Baltimore Ozone Nonattainment Area

AGENCY: Environmental Protection Agency (EPA).

ACTION: Proposed rule.

SUMMARY: EPA proposes to convert its conditional approval of a State Implementation Plan (SIP) revision submitted by the State of Maryland to a full approval. The revision consists of the 15 percent rate of progress requirements for the Baltimore severe ozone nonattainment area. EPA is also proposing to approve revisions to certain portions of the 1990 base year emissions inventory of volatile organic compound (VOC) and nitrogen oxide (NOx) emissions for the Baltimore nonattainment area. In the Final rules section of this Federal Register, EPA is converting its conditional approval of the Baltimore area's 15% Plan to a full approval and approving revisions to the 1990 base year emissions inventory as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. EPA will not institute a second comment period on this action. Any parties interested in commenting on this action should do so at this time.

DATES: Comments must be received in writing by March 6, 2000.

ADDRESSES: Written comments should be addressed to David L. Arnold, Chief, Ozone and Mobile Sources Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and Maryland Department of the Environment, 2500 Broening Highway, Baltimore, Maryland 21224.

FOR FURTHER INFORMATION CONTACT: Kristeen Gaffney, (215) 814-2092, at the EPA Region III address above, or by e-mail at gaffney.kristeen@epa.gov.

SUPPLEMENTARY INFORMATION: For further information, please see the information provided in the direct final action, with the same title, that is located in the “Rules and Regulations” section of this Federal Register publication.

Dated: January 14, 2000.
Bradley M. Campbell,
Regional Administrator, Region III.

[FR Doc. 00-2176 Filed 2-2-00; 8:45 am]

BILLING CODE 6560-50-P